DEPARTMENT OF COMMERCE

United States Patent and Trademark Office

Submission for OMB Review; Comment Request; “National Summer Teacher Institute”

The United States Patent and Trademark Office (USTPO) will submit to the Office of Management and Budget (OMB) for clearance the following proposal for collection of information under the provisions of the Paperwork Reduction Act (44 U.S.C. Chapter 35).

Agency: United States Patent and Trademark Office, Commerce.

Title: National Summer Teacher Institute.

OMB Control Number: 0651-0077.

Form Number(s):

• NSTI 1

• NSTI 2

• NSTI 3

Type of Request: Regular.

Number of Respondents: 900 per year.

Average Hours per Response: The USPTO estimates that it will take the public approximately 5 minutes (0.08 hours) to 30 minutes (0.5 hours) to prepare and submit the appropriate forms to the USPTO, depending upon the instrument used.

Burden Hours: 291.67 hours annually.

Cost Burden: $0.

Needs and Uses: The information gathered in this collection relates to applications for the “National Summer Teacher Institute,” a summer teaching workshop sponsored by the USPTO. The program application requires interested individuals to certify that they are educators with at least 3 years' experience; to identify STEM-related fields they have taught in the last year; to identify STEM-related fields they plan to teach in the upcoming year; and to acknowledge their commitment to incorporate the learnings from the National Summer Teacher Institute into their curriculum, where applicable, and cooperate with sharing lessons and outcomes with teachers and USPTO.

The USPTO may host various webinars in conjunction with the National Summer Teacher Institute. USPTO plans to conduct surveys of both the Institute and the webinars in order to gain useful feedback from program participants.

Affected Public: Businesses or other for-profits; not-for-profit institutions.

Frequency: Annually.

Respondent's Obligation: Required to Obtain or Retain Benefits.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0077 copy request” in the subject line of the message.

• Mail: Marcie Lovett, Records and Information Governance Division Director, Office of the Chief Technology Officer, United States Patent and Trademark Office, P.O. Box 1450, Alexandria, VA 22313-1450.

Written comments and recommendations for the proposed information collection should be sent on or before April 20, 2018 to Nicholas A. Fraser, OMB Desk Officer, via email to Nicholas_A._Fraser@omb.eop.gov, or by fax to 202-395-5167, marked to the attention of Nicholas A. Fraser.

Marcie Lovett,
Records and Information Governance Division Director, OCTO, United States Patent and Trademark Office.

[FR Doc. 2018-05633 Filed 3-20-18; 8:45 am]

BILLING CODE 3510-16-P